INTERNATIONAL TRADE COMMISSION

[Investigation No. 337-TA-1289]

Certain Knitted Footwear; Notice of a Commission Determination Not To Review an Initial Determination Granting a Joint Motion To Terminate the Investigation in its Entirety Based Upon Settlement; Termination of the Investigation

AGENCY: U.S. International Trade Commission.

ACTION: Notice.

SUMMARY: Notice is hereby given that the U.S. International Trade Commission has determined not to review the presiding administrative law judge's (“ALJ”) initial determination (“ID”) (Order No. 17) granting a joint motion to terminate the investigation in its entirety based upon settlement.

FOR FURTHER INFORMATION CONTACT: Panyin A. Hughes, Office of the General Counsel, U.S. International Trade Commission, 500 E Street SW, Washington, DC 20436, telephone (202) 205-3042. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On January 13, 2022, the Commission instituted this investigation based on a complaint filed by Nike, Inc. of Beaverton, Oregon. 87 FR 2176-77 (Jan. 13, 2022). The complaint alleged violations of section 337 of the Tariff Act of 1930, as amended, based on the importation into the United States, the sale for importation, or the sale within the United States after importation of certain knitted footwear by reason of infringement of one or more claims of U.S. Patent Nos. 9,918,511; 9,743,705; 8,266,749; 7,814,598; 9,060,562; and 8,898,932. Id. The Commission's notice of investigation named the following adidas entities as respondents: adidas AG of Herzogenaurach, Germany; adidas North America, Inc. of Portland Oregon; and adidas America, Inc. also of Portland, Oregon. The Office of Unfair Import Investigations was not named as a party in this investigation. Id.

On March 7, 2022, the ALJ granted an unopposed motion to amend the Complaint and Notice of Investigation to add an additional adidas respondent, adidas International Trading AG of Lucerne, Switzerland. Order No. 8 (Mar. 7, 2022), unreviewed by Comm'n Notice (Mar. 21, 2022); 87 FR 17100-101 (Mar. 25, 2022).

On August 18, 2022, the parties filed a joint motion to terminate the investigation in its entirety based upon a settlement agreement that “resolves all disputed issues in this investigation.” ID at 2.

On August 24, 2022, the ALJ issued the subject ID granting the motion. The ID observed that Commission Rule 210.21(a)(2) provides that “[a]ny party may move at any time to terminate an investigation in whole or in part as to any or all respondents on the basis of a settlement, a licensing or other agreement . . . .” 19 CFR 210.21(a)(2). The ID found that in compliance with 19 CFR 210.21(b)(1), “the motion contains a statement that there are no other agreements, written or oral, express or implied, between the private parties concerning the subject matter of this investigation.” ID at 2. The parties also submitted confidential and public versions of the settlement agreement. The ID further found that granting the motion would cause “no adverse effect on the public interest.” Id. No one petitioned for review of the subject ID.

The Commission has determined not to review the subject ID. The investigation is terminated in its entirety.

The Commission vote for this determination took place on September 21, 2022.

The authority for the Commission's determination is contained in section 337 of the Tariff Act of 1930, as amended (19 U.S.C. 1337), and in Part 210 of the Commission's Rules of Practice and Procedure (19 CFR part 210).

By order of the Commission.
Issued: September 22, 2022.
Katherine Hiner,
Acting Secretary to the Commission.

[FR Doc. 2022-20881 Filed 9-26-22; 8:45 am]

BILLING CODE 7020-02-P